DEPARTMENT OF LABOR

Employment and Training Administration

[TA-W-70,291]

Maxim Integrated Products, Formerly Known as Dallas Semiconductor, Dallas, TX; Amended Certification Regarding Eligibility To Apply for Worker Adjustment Assistance

In accordance with section 223 of the Trade Act of 1974, as amended (“Act”), 19 U.S.C. 2273, the Department of Labor issued a Certification of Eligibility to Apply for Worker Adjustment Assistance on July 8th, 2009, applicable to workers of Maxim Integrated Products, Dallas, Texas. The notice was published in the Federal Register on August 19, 2009 (74 FR 41932).

At the request of the State Agency, the Department reviewed the certification for workers of the subject firm. The workers produced integrated circuits (analog and mixed signal).

Information shows that Maxim Integrated Products was formerly known as Dallas Semiconductor. Some workers separated from employment at the subject firm had their wages reported under two separate unemployment insurance (UI) tax accounts under the names Maxim Integrated Products, Inc. and Dallas Semiconductor.

Accordingly, the Department is amending this certification to property reflect this matter.

The intent of the Department's certification is to include all workers of the subject firm who were adversely affected by a shift in production of integrated circuits (analog and mixed signal) to Japan, Thailand and the Philippines.

The amended notice applicable to TA-W-70,291 is hereby issued as follows:

All workers of Maxim Integrated Products, formerly known as Dallas Semiconductor, Dallas, Texas, who became totally or partially separated from employment on or after May 19, 2008, through July 8, 2011, and all workers in the group threatened with total or partial separation from employment on date of certification through two years from the date of certification, are eligible to apply for adjustment assistance under Chapter 2 of Title II of the Trade Act of 1974, as amended.

Signed at Washington, DC this 22nd day of March 2010.
Elliott S. Kushner,
Certifying Officer, Division of Trade Adjustment Assistance.

[FR Doc. 2010-7323 Filed 3-31-10; 8:45 am]

BILLING CODE 4510-FN-P